DEPARTMENT OF THE INTERIOR

Bureau of Land Management

[LLWYD09000, L51010000.ER0000, LVRWK21K2200, WYW190759]

Notice of Intent To Prepare an Environmental Impact Statement for the Dry Creek Trona Mine Project, Sweetwater County, Wyoming

AGENCY: Bureau of Land Management, Interior.

ACTION: Notice of intent.

SUMMARY: In compliance with the National Environmental Policy Act of 1969, as amended (NEPA), and the Federal Land Policy and Management Act of 1976, as amended (FLPMA), the Bureau of Land Management (BLM) Kemmerer Field Office intends to prepare an Environmental Impact Statement (EIS) for the proposed Dry Creek Trona Mine project in Sweetwater County, Wyoming, and by this notice is announcing the beginning of the scoping process to solicit public comments and identify issues.

DATES: This notice initiates the public scoping process for the EIS. The BLM requests comments concerning the scope of the analysis, potential alternatives, and identification of relevant information and studies. All comments must be received by May 31, 2022. The BLM will conduct a virtual public scoping meeting during the scoping period and will announce the meeting's date and other logistical information at least 15 days in advance through local media, newspapers, and the BLM website, https://go.usa.gov/xehyU.https://go.usa.gov/xehyU. The BLM will provide additional opportunities for public participation upon publication of the Draft EIS.

ADDRESSES: You may submit comments related to the Dry Creek Trona Mine EIS by any of the following methods:

• Website: https://go.usa.gov/xehyU.

• Email: BLM_WY_Dry_Creek@blm.gov.

• Mail: BLM Kemmerer Field Office, 430 North Highway 189, Kemmerer, WY 93101.

Documents pertinent to this proposal may be examined online at https://go.usa.gov/xehyU and at the Kemmerer Field Office.

FOR FURTHER INFORMATION CONTACT: Kelly Lamborn, Project Manager, klamborn@blm.gov; telephone: (307) 828-4505; 430 North Highway 189, Kemmerer, WY 93101. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In April 2020, Pacific Soda, LLC and Atlantic Soda, LLC (hereafter Pacific Soda and Atlantic Soda, respectively) submitted a project proposal to the BLM to construct mining facilities and employ solution mining technologies to mine trona beds 2,300 feet below the surface. The proposed project area is located south of Interstate 80 (I-80) and west of Wyoming State Highway 530, near the town of Green River, Wyoming, in the Known Sodium Leasing Area (KSLA). The KSLA is a geologic designation in the Green River Basin where developable trona deposits at least 4 feet thick are known to occur. Under the Proposed Action, facilities would include mine well fields, processing facilities, a co-generation plant, storage ponds, a landfill, transportation facilities, a water pipeline, and utility features.

The processing facilities, co-generation plant, storage ponds, and landfill are proposed. Groundwater wells would be drilled to provide water for the early phases of construction until a water pipeline from the Green River is fully constructed.

Pacific Soda and Atlantic Soda submitted an Application for Transportation and Utility Systems and Facilities on Federal Lands (Standard Form [SF] 299) to the BLM on November 5, 2020, for the project-related transportation and utility features, including a water supply pipeline, rail line, access road, and overhead powerline. Pacific Soda and Atlantic Soda submitted a second SF-299 application to the BLM on December 21, 2020, for a natural gas pipeline. These infrastructure features are proposed to cross a combination of private lands and BLM-managed lands. The SF-299 applications are included as part of the BLM's proposed action, and the impacts resulting from the associated linear features will be analyzed in the Draft EIS.

Pacific Soda and Atlantic Soda estimate that approximately 23.5 million tons of trona are in reserve on each section of land within the proposed project area, that mining would occur on each section for nine to ten years, and that mined trona would be refined to produce approximately 5.5 million metric tons of marketable soda ash per year. The proposed action (including all facilities, mining infrastructure, ancillary facilities, and transportation and utility features) would collectively impact approximately 3,330 acres of private land, 2,809 acres of BLM-managed land, and five acres of land managed by the U.S. Forest Service.

The BLM determined that the proposed action requires an EIS-level NEPA analysis. The preparation of an EIS will assist the BLM in the decision-making process through the identification, analysis, and public disclosure of potential impacts of the proposed action on the human environment, including (but not limited to) environmental, social, and economic impacts (40 CFR 1502.16). Aside from BLM and USFS managed lands, no federal or state managed lands would be disturbed by the proposed action. Additionally, the BLM is not aware of any other proposed activities in the Dry Creek Trona Mine Project area that would be considered, under NEPA, a connected action to the proposed action.

Purpose and Need for the Proposed Action

The BLM's purpose for the action is to respond to proponents' proposed Plan of Operations to construct and operate trona mining facilities. If approved by the BLM, this would allow Pacific Soda and Atlantic Soda the opportunity to develop their valid existing leases on specific public lands within the proposed mining plan boundary as authorized by the Mineral Leasing Act of 1920 (as amended) (MLA) and FLPMA. Pacific Soda and Atlantic Soda would construct the mining facilities and transportation and utility features specified in the Plan of Operations and SF-299 applications for rights-of-way for linear infrastructure. The objective of Pacific Soda and Atlantic Soda would be to use these facilities and employ solution mining technologies to mine trona beds 2,300 feet below the surface and produce an estimated 5.5 million tons of marketable soda ash per year.

The need for the action is established by the BLM's responsibility under the MLA and FLPMA. Under these statutes, the BLM is required to respond to the project proposal and review the proposed mine plan and associated SF-299s to ensure that mining activities and construction of associated facilities do not cause unnecessary or undue degradation of public lands and are consistent with leasing stipulations and other requirements mandated in the BLM Kemmerer and Green River Resource Management Plans (RMPs), as well as other applicable federal, state, and local statutes and regulations.

Summary of Expected Impacts

Preliminary expected impacts include potential impacts to sage grouse priority habitat, crucial big game habitat for antelope, cultural sites and areas of interest to Tribes, and ground water, as well as potential subsidence issues.

Anticipated Permits and Authorizations

Agencies that could require permits for this project, in addition to the BLM, include the U. S. Army Corps of Engineers; State of Wyoming Department of Environmental Quality; Wyoming State Engineer's Office; Wyoming Department of Transportation; Wyoming Game and Fish Department; U.S. Fish and Wildlife Service; U.S. Forest Service; and Sweetwater County.

Public Scoping Process

The purpose of public scoping is to identify relevant issues that will influence the scope of the environmental analysis, including alternatives, and guide the process for developing an EIS. The BLM plans to hold one virtual meeting during the scoping period. The specific date and details of the scoping meeting will be announced at least 15 days in advance through the BLM website at https://go.usa.gov/xehyU.

Request for Identification of Potential Issues, Alternatives, Information, and Analyses Relevant to the Proposed Action

The BLM requests assistance with identifying potential alternatives to the proposed action to be considered. As alternatives should resolve a problem with the proposed action, please indicate the purpose of the suggested alternative. The BLM also requests the identification of potential impacts that should be analyzed. Impacts should be a result of the action; therefore, please identify the activity and the potential resulting impact that should be analyzed. Information have that would assist in the development of alternatives or analysis of resource issues is also helpful.

Lead and Cooperating Agencies

The BLM is the lead agency for this analysis. Cooperating agencies include: U.S. Forest Service; U. S. Army Corps of Engineers; Wyoming Department of Agriculture; Wyoming Department of Environmental Quality; Wyoming Game and Fish Department; Wyoming Governor's Office; Wyoming Office of Outdoor Recreation; Wyoming Office of State Lands and Investments; Wyoming State Engineer's Office; Wyoming State Historic Preservation Office; Wyoming State Parks, Historic Sites, and Trails; Wyoming Industrial Siting Commission; Lincoln County Commissioners; Lincoln County Conservation District; Sweetwater County Commissioners; Sweetwater County Conservation District; Uinta County Commissioners; Uinta County Conservation District; Town of Granger; and Town of Green River. Consulting parties include: Eastern Shoshone Tribe of the Wind River Reservation; Northern Arapaho Tribe; Ute Tribe of the Uintah and Ouray Reservation; and Shoshone-Bannock Tribes of the Fort Hall Reservation.

Nature of Decision To Be Made

Following a thorough NEPA analysis, the BLM's decision will include whether to approve the Plan of Operations and SF-299 applications (for transportation and utility features) and, if approved, whether modifications and any additional mitigation measures are required to comply with the FLPMA mandate to prevent unnecessary or undue degradation and conform to leasing stipulations specified in the BLM Kemmerer and Green River RMPs.

Additional Information

The BLM will identify, analyze, and consider mitigation to address the reasonably foreseeable impacts to resources from the proposed action and all reasonable alternatives and, in accordance with 40 CFR 1502.14(f), include appropriate mitigation measures not already included in the proposed action or alternatives. Mitigation may include avoidance, minimization, rectification, reduction or elimination over time, and compensation; and may be considered at multiple scales, including the landscape scale.

The BLM will utilize and coordinate the NEPA process to help support procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Indian Tribes on a government-to-government basis in accordance with Executive Order 13175, BLM MS 1780, and other Departmental policies. Tribal concerns, including impacts on Indian trust assets and potential impacts to cultural resources, will be given due consideration. Federal, state, and local agencies, along with Tribes and other stakeholders that may be interested in or affected by the proposed project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.7.)

Melissa Towers,
Acting District Manager, BLM High Desert District Office.

[FR Doc. 2022-09088 Filed 4-27-22; 8:45 am]

BILLING CODE 4310-DN-P